DEPARTMENT OF HEALTH AND HUMAN SERVICES

Centers for Disease Control and Prevention

[30Day-04-0497]

Proposed Data Collections Submitted for Public Comment and Recommendations

The Centers for Disease Control and Prevention (CDC) publishes a list of information collection requests under review by the Office of Management and Budget (OMB) in compliance with the Paperwork Reduction Act (44 U.S.C. chapter 35). To request a copy of these requests, call the CDC Reports Clearance Officer at (404) 498-1210 or send an e-mail to omb@cdc.gov. Send written comments to CDC Desk Officer, Human Resources and Housing Branch, New Executive Office Building, Room 10235, Washington, DC 20503 or by fax to (202) 395-6974. Written comments should be received within 30 days of this notice.

Proposed Project

Evaluating CDC Funded Health Department HIV Prevention Programs, OMB No. 0920-0497—Revision—National Center for HIV, STD, and TB Prevention (NCHSTP), Centers for Disease Control and Prevention (CDC).

Background

CDC is requesting approval for the continued use of three currently approved forms (under OMB Control No. 0920-0497) for collecting HIV partner counseling and referral services (PCRS) program data. The current forms expire October 31, 2004. This request is for clearance for use of these forms through April, 2006. The extension of the current forms will allow grantees to continue to collect PCRS data as they transition to the new Program Evaluation and Monitoring System (PEMS) over the next year. This clearance will also allow CDC to collect information on how federal funds are allocated by grantees for HIV prevention.

CDC funds HIV prevention projects in 65 public health agencies (50 states, 6 cities, 7 territories, Washington, DC, and Puerto Rico) through cooperative agreements. PCRS is one of a number of public health strategies supported by CDC that is designed to control and prevent the spread of HIV.

A fundamental feature of PCRS is informing current and past partners of an HIV-infected person that they have been identified as a sex or injection-drug-paraphernalia-sharing partner, and advising them to be tested for HIV. Informing partners of their exposure to HIV is confidential, and partners are not told who reported their name, or when the reported exposure occurred. Notified partners who may not have suspected their risk can choose whether to have HIV counseling and testing. Those who choose to be tested and are found to be HIV positive can receive a medical evaluation, treatment, and prevention services designed to modify their high risk behavior, thereby possibly reducing the number of new HIV infections.

HIV prevention programs that conduct PCRS interventions can reach significant numbers of persons at very high risk of contracting HIV. The CDC requires aggregate PCRS program data to determine if interventions are being delivered as intended, gauge the degree to which program performance indicator targets are being achieved, and help agencies improve their programs to better deliver effective PCRS. Until grantees transition to PEMS, it is essential that they be allowed to continue to collect aggregate PCRS data using the existing forms.

Each health department funded to conduct PCRS will prepare and submit aggregate PCRS data to the CDC annually.

Annualized Burden Table
Form | Number of respondents | Number of responses per respondent | Average burden per response (in hrs.)
PCRS Process Monitoring Form | 65 | 1 | 2
Budget by Major Funding Activities Form | 65 | 1 | 30/60
Budget by Major Providers Form | 65 | 1 | 30/60

Dated: October 25, 2004.
Alvin Hall,
Director, Management Analysis and Services Office, Centers for Disease Control and Prevention.

[FR Doc. 04-24320 Filed 10-29-04; 8:45 am]

BILLING CODE 4163-18-P